DEPARTMENT OF HEALTH AND HUMAN SERVICES

Centers for Disease Control and Prevention

Advisory Committee to the Director (ACD), Centers for Disease Control and Prevention (CDC)—Ethics Subcommittee (ES)

Correction: This notice was published in the Federal Register on September 8, 2011, Volume 76, Number 174, Page 55678. The correct time should be 1 p.m.-3:30 p.m.

Contact Person for More Information: Drue Barrett, Ph.D., Designated Federal Officer, ACD, CDC—ES, CDC, 1600 Clifton Road, NE., M/S D-50, Atlanta, Georgia 30333. Telephone (404) 639-4690. E-mail: dbarrett@cdc.gov.

The Director, Management Analysis and Services Office, has been delegated the authority to sign Federal Register notices pertaining to announcements of meetings and other committee management activities, for both the Centers for Disease Control and Prevention and the Agency for Toxic Substances and Disease Registry.

Dated: September 12, 2011.
Elaine L. Baker,
Director, Management Analysis and Services Office, Centers for Disease Control and Prevention.

[FR Doc. 2011-23767 Filed 9-15-11; 8:45 am]

BILLING CODE 4163-18-P